DEPARTMENT OF THE INTERIOR

Bureau of Land Management

[LLNM940000 L14200000.BJ0000]

Notice of Correction for Notice of Filing of Plat of Survey, New Mexico

AGENCY: Bureau of Land Management, Interior.

ACTION: Notice of correction.

SUMMARY: The plat of survey described below was officially filed in the New Mexico State Office, Bureau of Land Management (BLM), Santa Fe, New Mexico, on January 15, 2004. The BLM published a Notice of Filing of Plat of Survey in the Federal Register on April 8, 2010 [75 FR 17952] which contained errors in the description format.

FOR FURTHER INFORMATION CONTACT: These plats will be available for inspection in the New Mexico State Office, Bureau of Land Management, 301 Dinosaur Trail, Santa Fe, New Mexico. Copies may be obtained from this office upon payment. Contact Marcella Montoya at 505-954-2097, or by e-mail Marcella_Montoya@nm.blm.gov, for assistance.

SUPPLEMENTARY INFORMATION:

New Mexico Principal Meridian, New Mexico (NM):

The plat representing the dependent resurvey and survey in Townships 20 North, Ranges 7 and 8 East, of the New Mexico Principal Meridian, accepted January 8, 2004, for Group 1018 NM. This survey is based on Public Law 108-66, 117 Stat. 876, enacted on July 30, 2003, by which Congress directed that certain lands under the management of the BLM be transferred to be held in trust for the Pueblos of San Ildefonso and Santa Clara. A boundary line, established by the two Pueblos, was identified by this survey to separate two tracts located within Township 20 North, Ranges 7 and 8 East, New Mexico Principal Meridian, New Mexico, more particularly described as follows:

Land Description for Santa Clara Land Tract

Beginning at Angle Point #1 on the line between Secs. 21 and 22, T. 20 N., R. 7 E., thence along the N. bdy. of San Ildefonso lands and S. bdy. of Santa Clara Lands;

S 45°26′ E 22.79 chs. to Angle Point #2,

S 85°47′ E 12.37 chs. to Angle Point #3,

S 25°24′ E 13.23 chs. to Angle Point #4,

S 83°54′ E 29.72 chs. to Angle Point #5,

S 76°18′ E 35.23 chs. to Angle Point #6,

S 66°42′ E 21.30 chs. to Angle Point #7,

S 60°13′ E 16.50 chs. to Angle Point #8,

S 7°32′ E 13.98 chs. to Angle Point #9,

S 24°51′ E 23.41 chs. to Angle Point #10,

S 58°57′ E 13.25 chs. to Angle Point #11 on the N. bdy. of the San Ildefonso Pueblo Grant, thence along the N. bdy. of the San Ildefonso Pueblo Grant;

S 89°58′ E 5.49 chs. to the line between Secs. 25 and 26 to the north,

S 89°58′ E 66.04 chs. to Milepost 4

N 89°53′ E 4.375 chs. to Angle Point #4 of Tract A

N 43°24′ W 12.12 chs. to Angle Point #3 of Tract A

N 89°48′ E 5.66 chs. to Angle Point #2 of Tract A

S 43°21′ E 12.115 chs. to Angle Point #1 of Tract A

N 89°47′ E 4.04 chs. to the intersection with the line between T. 20 N., R. 7 E. and T. 20 N., R. 8 E.,

thence through Section 30, T. 20 N., R. 8 E.,

N 89°47′ E 26.95 chs. to the SE corner of the Santa Clara Lands Tract, identical with the SW corner of the Santa Clara Pueblo Grant,

thence along the W. bdy. of the Santa Clara Pueblo Grant;

N 0°02′ E 15.33 chs. to Milepost 5,

N 0°03′ E 40.31 chs. to Milepost 4½,

N 0°01′ E 15.90 chs. to the closing corner between Sections 19 and 30,

N 0°01′ E 24.06 chs. to Milepost 4,

North 16.10 chs. to the E-W center line of Section 19,

S 89°58′ W 27.08 chs. along the E-W center line of Section 19 to the closing corner with T. 20 N., R. 7 E.,

thence along the line between T. 20 N., R. 7 E. and T. 20 N., R. 8 E.;

N 0°45′ W 2.96 chs. to the ¼ section corner of Section 24, T. 20 N., R. 7 E.,

thence along the E-W center line of Section 24 and the S. bdy. of the Santa Clara Indian Reservation;

S 88°18′ W 39.79 chs. to a point on the E-W center line of Section 24,

S 88°24′ W 39.80 chs. to the ¼ section corner of Sections 23 and 24,

thence along the E-W center line of Section 23, and the S. bdy. of the Santa Clara Indian Reservation;

S 89°32′ W 39.98 chs. to a point on the E-W center line of Section 23,

S 89°30′ W 39.98 chs. to the ¼ section corner of Section 23 only,

thence between Sections 22 and 23;

N 0°06′ W 4.29 chs. to the ¼ section corner of Section 22 only,

N 0°06′ W 35.94 chs. to the corner of Sections 14, 15, 22 and 23,

thence between sections 15 and 22, and along the S. bdy. of the Santa Clara Indian Reservation;

N 89°03′ W 38.635 chs. to the ¼ section corner of Section 15 only,

N 89°02′ W 2.16 chs. to the ¼ section corner of Section 22 only,

N 89°02′ W 36.44 chs. to the corner of Sections 15 and 16 only,

S 85°19′ W 3.53 chs. to the closing corner of Sections 21 and 22,

thence along the line between Sections 21 and 22;

South 36.93 chs. to the ¼ section corner of Sections 21 and 22,

South 17.16 chs. to Angle Point #1 and point of beginning, containing 2422.99 acres, more or less.

Land Description for San Ildefonso Land Tract

Beginning at AP1 on the line between Secs. 21 and 22, T. 20 N., R. 7 E., thence along the south boundary of Santa Clara lands and the north boundary of San Ildefonso lands;

S 45°26′ E 22.79 chs. to AP2,

S 85°47′ E 12.37 chs. to AP3,

S 25°24′ E 13.23 chs. to AP4,

S 83°54′ E 29.72 chs. to AP5,

S 76°18′ E 35.23 chs. to AP6,

S 66°42′ E 21.30 chs. to AP7,

S 60°13′ E 16.50 chs. to AP8,

S 7°32′ E 13.98 chs. to AP9,

S 24°51′ E 23.41 chs. to AP10,

S 58°57′ E 13.25 chs. to AP11,

thence along the north boundary of the San Ildefonso Pueblo Grant;

N 89°58′ W 1.74 chs. to CC of Secs. 25 and 26 to the south,

N 89°58′ W 7.28 chs. to Milepost 5,

West, 18.12 chs. to NW Cor. San Ildefonso Pueblo Grant,

thence along the west boundary of the San Ildefonso Pueblo Grant;

S 0°03′ E 7.52 chs. to CC of Secs. 26 and 35 to the west,

S 0°03′ E 0.88 chs. to CC of Secs. 26 and 35 to the east,

S 0°03′ E 36.00 chs. to Milepost 2,

S 0°02′ E 39.45 chs. to the intersection with the S. boundary of T. 20 N., R. 7 E.,

thence along the south boundary of Sec. 35;

S 89°17′ W 7.40 chs. to the ¼ section cor. of Sec. 35,

West 7.02 chs. to the ¼ section cor. of sec. 2,

West 33.43 chs. to the corner of Secs. 34 and 35,

thence along the south boundary of Sec. 34;

S 89°56′ W 6.65 chs. to the corner of Secs. 2 and 3,

S 89°56′ W 33.33 chs. to the ¼ section cor. of Sec. 34,

N 89°53′ W 6.78 chs. to the ¼ section cor. of sec. 3,

N 89°53′ W 33.20 chs. to the corner of Secs. 33 and 34,

thence along the line between Secs. 33 and 34;

N 0°02′ W 40.02 chs. to the ¼ section cor. of Secs. 33 and 34,

N 0°03′ W 40.01 chs. to the corner of Secs. 27, 28, 33 and 34,

thence along the line between Secs. 27 and 28;

N 0°02′ W 39.97 chs. to the ¼ section cor. of Secs. 27 and 28,

North 39.93 chs. to the corner of Secs. 21, 22, 27 and 28,

thence along the line between Secs. 21 and 22;

North 22.90 chs. to AP1 and point of beginning, containing 1982.17 acres, more or less.

Stephen W. Beyerlein,
Acting Chief, Branch of Cadastral, Survey/GeoSciences.

[FR Doc. 2010-9695 Filed 4-26-10; 8:45 am]

BILLING CODE 4310-FB-P